ENVIRONMENTAL PROTECTION AGENCY

[EPA-HQ-OAR-2007-1196; FRL-9781-1]

Recent Postings of Broadly Applicable Alternative Test Methods

AGENCY: Environmental Protection Agency (EPA).

ACTION: Notice of availability.

SUMMARY: This notice announces the broadly applicable alternative test method approval decisions the EPA has made under and in support of New Source Performance Standards (NSPS) and the National Emission Standards for Hazardous Air Pollutants (NESHAP) under the Clean Air Act (CAA) in 2012.

FOR FURTHER INFORMATION CONTACT: An electronic copy of each alternative test method approval document is available on the EPA's Web site at www.epa.gov/ttn/emc/approalt.html. For questions about this notice, contact Ms. Lula H. Melton, Air Quality Assessment Division, Office of Air Quality Planning and Standards (E143-02), Environmental Protection Agency, Research Triangle Park, NC 27711; telephone number: 919-541-2910; fax number: 919-541-0516; email address: melton.lula@epa.gov. For technical questions about individual alternative test method decisions, refer to the contact person identified in the individual approval documents.

SUPPLEMENTARY INFORMATION:

I. General Information

A. Does this notice apply to me?

This notice will be of interest to entities regulated under 40 Code of Federal Regulations (CFR) parts 60, 61, and 63, state, local, and tribal agencies, and the EPA Regional Offices responsible for implementation and enforcement of regulations under 40 CFR parts 60, 61, and 63.

B. How can I get copies of this information?

You may access copies of the broadly applicable alternative test method approval documents from the EPA's Web site at www.epa.gov/ttn/emc/approalt.html.

II. Background

Broadly applicable alternative test method approval decisions made by the EPA in 2012 under the NSPS, 40 CFR part 60 and the NESHAP, and 40 CFR parts 61 and 63 are identified in this notice (see Table 1). Source owners and operators may voluntarily use these broadly applicable alternative test methods subject to their specific applicability. Use of these broadly applicable alternative test methods does not change the applicable emission standards.

As explained in a previous Federal Register notice published at 72 FR 4257 (January 30, 2007) and found on the EPA's Web site at www.epa.gov/ttn/emc/approalt.html, the EPA Administrator has the authority to approve the use of alternative test methods to comply with requirements under 40 CFR parts 60, 61, and 63. This authority is found in sections 60.8(b)(3), 61.13(h)(1)(ii), and 63.7(e)(2)(ii). In the past, we have performed thorough technical reviews of numerous requests for alternatives and modifications to test methods and procedures. Based on these reviews, we have often found that these changes or alternatives would be equally valid and appropriate to apply to other sources within a particular class, category, or subcategory. Consequently, we have concluded that, where a method modification or an alternative method is clearly broadly applicable to a class, category, or subcategory of sources, it is both more equitable and efficient to approve its use for all appropriate sources and situations at the same time.

It is important to clarify that alternative methods are not mandatory but permissive. Sources are not required to employ such a method but may choose to do so in appropriate cases. Source owners or operators should review the specific broadly applicable alternative method approval decision on the EPA's Web site at www.epa.gov/ttn/emc/approalt.html before electing to employ it. As per 63.7(f)(5), by electing to use an alternative method for 40 CFR part 63 standards, the source owner or operator must continue to use the alternative method until approved otherwise.

The criteria for approval and procedures for submission and review of broadly applicable alternative test methods are outlined at 72 FR 4257 (January 30, 2007). We will continue to announce approvals for broadly applicable alternative test methods on the EPA's Web site at www.epa.gov/ttn/emc/approalt.html and annually publish a notice that summarizes approvals for broadly applicable alternative test methods.

This notice comprises a summary of seven such approval documents added to our Technology Transfer Network from January 1, 2012, through December 31, 2012. The alternative method decision letter/memo number, the reference method affected, sources allowed to use this alternative, and the modification or alternative method allowed are summarized in Table 1 of this notice. Please refer to the complete copies of these approval documents available from the EPA's Web site at www.epa.gov/ttn/emc/approalt.html as Table 1 serves only as a brief summary of the broadly applicable alternative test methods. In addition to alternative decisions listed in Table 1, we received comments and updated Alternative-082, which was approved the previous year in 2011. This alternative approval letter can also be viewed at www.epa.gov/ttn/emc/approalt.html.

If you are aware of reasons why a particular alternative test method approval that we issued should not be broadly applicable, we request that you make us aware of the reasons in writing, and we will revisit the broad approval. Any objection to a broadly applicable alternative test method, as well as the resolution of that objection, will be announced on the EPA's Web site at www.epa.gov/ttn/emc/approalt.html and in the subsequent Federal Register notice. If we decide to retract a broadly applicable test method, we would continue to grant case-by-case approvals, as appropriate, and would (as states, local and tribal agencies and the EPA Regional Offices should) consider the need for an appropriate transition period for users either to request case-by-case approval or to transition to an approved method.

Dated: February 8, 2013.
Mary E. Henigin,
Acting Director, Office of Air Quality Planning and Standards.

Table 1—Approved Alternative Test Methods and Modifications to Test Methods Referenced in or Published Under Appendices in 40 CFR Parts 60, 61, and 63 Made Between January 2012 and December 2012
Alternative method decision letter/memo No. | As an alternative or modification to . . . | For . . . | You may . . .
ALT-091 | Method 4-Determination of Moisture Content in Stack Gases | Sources subject to 40 CFR part 63, subpart UUUUU-National Emission Standards for Hazardous Air Pollutants: Coal- and Oil-Fired Electric Utility Steam Generating Units | Use alternative procedures in lieu of Method 4 to determine the moisture content of the stack gas during low emitting EGU (LEE)testing for mercury emissions.
ALT-092 | Method 7E-Determination of Nitrogen Oxides Emissions from Stationary Sources (Instrumental Analyzer Procedure) | Natural gas burning internal combustion engines subject to 40 CFR part 60, subpart JJJJ-Standards of Performance for Stationary Spark Ignition Internal Combustion Engines | Use a single 10 ppm (or less) calibration gas in lieu of a three-point calibration for determination of NO2 when the NO2 emissions remain below 10 ppm.
ALT-093 | Method 5-Determination of Particulate Matter Emissions from Stationary Sources | Sources subject to 40 CFR part 63, subpart RRR-National Emission Standards for Hazardous Air Pollutants for Secondary Aluminum Production | Use alternative test procedures for batch processes subject to 40 CFR 63.1511(b)(3) that are required to be sampled using an isokinetic train.
ALT-094 | Measure total sulfides using an H2S and CS2 CEMS | Sources subject to 40 CFR part 63, subpart UUUU-National Emission Standards for Hazardous Air Pollutants for Cellulose Products Manufacturing | Use a sample conditioning, sample conversion, and SO2 CEMS in place of H2S and CS2 CEMS to measure total sulfides at process vents.
ALT-095 | Calculating the coke burn-off rate for compliance with 40 CFR 60.105(c) | Sources subject to 40 CFR part 60, subpart J-Standards of Performance for Petroleum Refineries | Use the flow rate CEMS and Equation 2 of 40 CFR 63.1573(a)(2).
ALT-096 | Method 25A-Determination of Total Gaseous Organic Concentration Using a Flame Ionization Analyzer and Method 18-Measurment of Gaseous Organic Compound Emissions by Gas Chromatography | Sources subject to 40 CFR part 60, subpart JJJJ-Standards of Performance for Stationary Spark Ignition Internal Combustion Engines | Use the TECO-551 to measure methane and NMOC.
ALT-097 | Method 25A-Determination of Total Gaseous Organic Concentration Using a Flame Ionization Analyzer and Method 18-Measurment of Gaseous Organic Compound Emissions by Gas Chromatography | Bypass flare exhaust emissions subject to 40 CFR part 60, subpart WWW-Standards of Performance for Municipal Solid Waste Landfills | Use GC and GC back-flush procedures to separate and measure methane and NMOC.
Source owners or operators should review the specific broadly applicable alternative method approval letter on the EPA's Web site at www.epa.gov/ttn/emc/approalt.html before electing to employ it.

[FR Doc. 2013-03598 Filed 2-14-13; 8:45 am]

BILLING CODE 6560-50-P